DEPARTMENT OF HOMELAND SECURITY

[Docket No. DHS-2012-0061]

Chemical Facility Anti-Terrorism Standards Personnel Surety Program

AGENCY: National Protection and Programs Directorate, DHS.

ACTION: Information collection request; extension of comment period.

SUMMARY: The Department of Homeland Security (DHS), National Protection and Programs Directorate (NPPD), Office of Infrastructure Protection (IP), Infrastructure Security Compliance Division (ISCD) is extending the comment period for the CFATS Personnel Surety Program Notice and Request for Comments published on March 22, 2013, at 78 FR 17680, entitled “Information Collection Request; Chemical Facility Anti-Terrorism Standards Personnel Surety Program” for 14 days.¹ This extension of the comment period is designed to accommodate requests from the public for more time to review the Notice and Request for Comments.

¹ The 60-day CFATS Personnel Surety Program Notice and Request for Comments may be viewed at https://federalregister.gov/a/2013-06184.

DATES: The comment period for the CFATS Personnel Surety Program Notice and Request for Comments published on March 22, 2013, at 78 FR 17680, is extended. Comments and related material must be submitted to the docket by June 4, 2013.

ADDRESSES: Interested persons are invited to submit comments on the proposed information collection through the Federal eRulemaking Portal at http://www.regulations.gov. All submissions received must include the words “Department of Homeland Security” and the docket number DHS-2012-0061. Except as provided below, comments received will be posted without alteration at http://www.regulations.gov, including any personal information provided.

Comments that include trade secrets, confidential commercial or financial information, Chemical-terrorism Vulnerability Information (CVI),² Sensitive Security Information (SSI),³ or Protected Critical Infrastructure Information (PCII) ⁴ should not be submitted to the public regulatory docket. Please submit such comments separately from other comments in response to this notice. Comments containing trade secrets, confidential commercial or financial information, CVI, SSI, or PCII should be appropriately marked and packaged in accordance with applicable requirements and submitted by mail to the DHS/NPPD/IP/ISCD CFATS Program Manager at the Department of Homeland Security, 245 Murray Lane SW., Mail Stop 0610, Arlington, VA 20528-0610. Comments must be identified by docket number DHS-2012-0061.

² For more information about CVI see 6 CFR 27.400 and the CVI Procedural Manual at http://www.dhs.gov/xlibrary/assets/chemsec_cvi_proceduresmanual.pdf.

³ For more information about SSI see 49 CFR Part 1520 and the SSI Program Web page at http://www.tsa.gov/ssi.

⁴ For more information about PCII see 6 CFR Part 29 and the PCII Program Web page at http://www.dhs.gov/protected-critical-infrastructure-information-pcii-program.

SUPPLEMENTARY INFORMATION: On March 22, 2013, the Department published a notice entitled “Information Collection Request; Chemical Facility Anti-Terrorism Standards Personnel Surety Program” at 78 FR 17680. In the March 22, 2013 notice, the Department stated that it will submit a new Information Collection Request (ICR) to the Office of Management and Budget (OMB) for review and clearance in accordance with the Paperwork Reduction Act (PRA) of 1995 (Pub. L. 104-13, 44 U.S.C. Chapter 35). The purpose of the March 22, 2013 notice was to solicit comments prior to the submission of the ICR to OMB. The March 22, 2013 notice described the nature of the information collection, the categories of respondents, the estimated burden (in hours), and the estimated burden cost necessary to implement the Chemical Facility Anti-Terrorism Standards (CFATS) Personnel Surety Program pursuant to 6 CFR 27.230(a)(12)(iv).

The Department believes that the public would benefit from additional time to provide comments on the March 22, 2013 CFATS Personnel Surety Program Notice and Request for Comments. For that reason, the Department is extending the comment period for a period of 14 days. Comments will now be accepted until June 4, 2013.

Dated: May 15, 2013.
Scott Libby,
Deputy Chief Information Officer, National Protection and Programs Directorate, Department of Homeland Security.

[FR Doc. 2013-12059 Filed 5-20-13; 8:45 am]

BILLING CODE 9110-09-P